DEPARTMENT OF HOMELAND SECURITY

Coast Guard

33 CFR Part 165

[Docket No. USCG-2010-0063]

Safety Zones; Annual Firework Displays Within the Captain of the Port, Puget Sound Area of Responsibility

AGENCY: Coast Guard, DHS.

ACTION: Notice of enforcement of regulation.

SUMMARY: The Coast Guard will enforce the safety zones for annual firework displays in the Captain of the Port, Puget Sound area of responsibility during the dates and times noted below. This action is necessary to prevent injury and to protect life and property of the maritime public from the hazards associated with the firework displays. During the enforcement periods, entry into, transit through, mooring, or anchoring within these zones is prohibited unless authorized by the Captain of the Port, Puget Sound or Designated Representative.

DATES: The regulations in 33 CFR 165.1332 will be enforced during the dates and times noted below from July 3, 2010 through August 15, 2010.

FOR FURTHER INFORMATION CONTACT: If you have questions on this notice, call or e-mail LTJG Ashley M. Wanzer, Sector Seattle Waterways Management, Coast Guard; telephone 206-217-6175, SectorSeattleWWM@uscg.mil.

SUPPLEMENTARY INFORMATION: The Coast Guard will enforce 33 CFR 165.1332 for the following safety zones during the dates and times noted and with the changes mentioned below.

The following safety zones will extended their respective radius in yards from their respective launch site to the radius noted below and be enforced from 5 p.m. on July 3, 2010 through 1 a.m. on July 4, 2010:

Event name | Location | Latitude | Longitude | Radius
Liberty Bay Fireworks | Liberty Bay | 47° 43.917′ N | 122° 39.133′ W | 300
Langlie's Old Fashioned Independence Celebration | Indianola | 47° 44.817′ N | 122° 31.533′ W | 250
Deer Harbor Annual Fireworks Display | Deer Harbor | 48° 37.0′ N | 123° 00.25′ W | 200

The following safety zones will extended their respective radius in yards from their respective launch site to the radius noted below and be enforced from 5 p.m. on July 4, 2010 through 1 a.m. on July 5, 2010:

Event name | Location | Latitude | Longitude | Radius
Port Angeles Chamber of Commerce | Port Angeles Harbor | 48°07.033′ N | 123°24.967′ W | 150
Kirkland Fireworks | Kirkland , Lake Washington | 47°40.583′ N | 122°12.84′ W | 250
Three Tree Point Community Fireworks | Three Tree Point | 47°27.033′ N | 122°23.15′ W | 200
City of Renton Fireworks | Renton, Lake Washington | 47°29.986′ N | 122°11.85′ W | 150
Steilacoom Annual Fireworks | Steilacoom | 47°10.4′ N | 122°36.2′ W | 450
Tacoma Freedom Fair | Commencement Bay | 47°16.817′ N | 122°27.933′ W | 300
City of Anacortes Fireworks | Fidalgo Bay | 47°17.1′ N | 122°28.4′ W | 175
Fireworks Display | Henderson Bay | 47°21.8′ N | 122°38.367′ W | 250
Des Moines Fireworks | Des Moines | 47°24.117′ N | 122°20.033′ W | 150
Port Orchard Fireworks | Port Orchard | 47°32.883′ N | 122°37.917′ W | 350
Bainbridge Island Fireworks | Eagle Harbor | 47°37.267′ N | 122°31.583′ W | 300
Yarrow Point Community | Yarrow Point | 47°38.727′ N | 122°13.466′ W | 150
City of Kenmore Fireworks | Lake Forest Park | 47°39.0′ N | 122°13.55′ W | 150
Sheridan Beach Community | Lake Forest Park | 47°44.783′ N | 122°16.917′ W | 100
Vashon Island Fireworks | Quartermaster Harbor | 47°45.25′ N | 122°15.75′ W | 450
Kingston Fireworks | Appletree Cove | 47°47.65′ N | 122°29.917′ W | 150
Brewster Fire Department Fireworks | Brewster | 48°06.367′ N | 119°47.15′ W | 250
Port Townsend Sunrise Rotary | Port Townsend | 48°08.067′ N | 122°46.467′ W | 175
Friday Harbor Independence | Friday Harbor | 48°32.6′ N | 122°00.467′ W | 250
Roche Harbor Fireworks | Roche Harbor | 48°36.7′ N | 123°09.5′ W | 150
Orcas Island | Orcas Island | 48°41.317′ N | 122°54.467′ W | 250
Blast Over Bellingham | Bellingham Bay | 48°44.933′ N | 122°29.667′ W | 450
City of Mount Vernon Fireworks | Edgewater Park | 48°25.178′ N | 122°20.424′ W | 150
Chase Family Fourth at Lake Union | Lake Union | 47°38.418′ N | 122°20.111′ W | 300

The following safety zone will be enforced from 5 p.m. on July 5, 2010 through 1 a.m. on July 6, 2010:

Event name | Location | Latitude | Longitude | Radius
Alderbrook Resort & Spa Fireworks | Hood Canal | 47°21.033′ N | 123°04.1′ W | 350

The following safety zone will be enforced from 5 p.m. on July 10, 2010 through 1 a.m. on July 11, 2010:

Event name | Location | Latitude | Longitude | Radius
Mercer Island Celebration | Mercer Island | 47°35.517′ N | 122°13.233′ W | 150

The following safety zone will be enforced from 5 p.m. on July 24, 2010 through 1 a.m. on July 25, 2010:

Event name | Location | Latitude | Longitude | Radius
Whaling Days | Dyes Inlet | 47°38.65′ N | 122°41.35′ W | 300

The following safety zone will be enforced from 5 p.m. on August 14, 2010 through 1 a.m. on August 15, 2010:

Event name | Location | Latitude | Longitude | Radius
Medina Days | Medina Park | 47° 36.867′ N | 122° 14.5′ W | 150

The special requirements listed in 33 CFR 165.1332, published on June 15, 2010 in the Federal Register (75 FR 33700), apply to the activation and enforcement of these safety zones.

All vessel operators who desire to enter the safety zone must obtain permission from the Captain of the Port or Designated Representative by contacting either the on-scene patrol craft on VHF Ch 13 or Ch 16 or the Coast Guard Sector Seattle Joint Harbor Operations Center (JHOC) via telephone at 206-217-6002.

The Coast Guard may be assisted by other Federal, State, or local law enforcement agencies in enforcing this regulation.

This notice is issued under authority of 33 CFR 165.1332 and 33 CFR 165 and 5 U.S.C. 552(a). In addition to this notice, the Coast Guard will provide the maritime community with extensive advanced notification of the safety zones via the Local Notice to Mariners and marine information broadcasts on the day of the events. If the COTP or Designated Representative determines that the regulated area need not be enforced for the full duration stated in this notice, a Broadcast Notice to Mariners will be issued to grant general permission to enter the regulated area.

Dated: June 18, 2010.
L.R. Tumbarello,
Commander, U.S. Coast Guard, Captain of the Port, Puget Sound, Acting.

[FR Doc. 2010-15970 Filed 6-30-10; 8:45 am]

BILLING CODE 9110-04-P